INTERNATIONAL TRADE COMMISSION

[Investigation No. 332-557]

Aluminum: Competitive Conditions Affecting the U.S. Industry: Proposed Information Collection; Comment Request; Aluminum: Competitive Conditions Affecting the U.S. Industry Questionnaire

AGENCY: United States International Trade Commission.

ACTION: Notice.

SUMMARY: In accordance with the provisions of the Paperwork Reduction Act of 1995, the U.S. International Trade Commission (Commission) hereby gives notice that it plans to submit a request for approval of a questionnaire to the Office of Management and Budget for review and requests public comment on its draft collection.

DATES: To ensure consideration, written comments must be submitted on or before August 24, 2016.

ADDRESSES: Direct all written comments to Karl Tsuji, Project Leader, or Mihir Torsekar, Deputy Project Leader, U.S. International Trade Commission, 500 E Street SW., Washington, DC 20436 (or via email at karl.tsuji@usitc.gov or mihir.torsekar@usitc.gov).

Additional Information: Copies of the questionnaire and supporting investigation documents may be obtained from project leader Karl Tsuji (karl.tsuji@usitc.gov or 202-205-3434) or deputy project leader Mihir Torsekar (mihir.torsekar@usitc.gov or 202-205-3350). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

SUPPLEMENTARY INFORMATION: Purpose of Information Collection: The information requested by the questionnaire is for use by the Commission in connection with Investigation No. 332-557, Aluminum: Competitive Conditions Affecting the U.S. Industry, instituted under the authority of section 332(g) of the Tariff Act of 1930 (19 U.S.C. 1332(g)). This investigation was requested by the House Committee on Ways and Means (the Committee), 81 FR 21591, April 12, 2016. The Committee anticipated that the Commission would need to include a survey to help develop detailed information on the domestic aluminum market and industry. The Commission expects to deliver the results of its investigation to the Committee by June 27, 2017.

Summary of Proposal

(1) Number of forms submitted: 1.

(2) Title of form: Aluminum: Competitive Conditions Affecting the U.S. Industry Questionnaire.

(3) Type of request: New.

(4) Frequency of use: Industry questionnaire, single data gathering, scheduled for 2016.

(5) Description of respondents: U.S. producers of unwrought and wrought aluminum.

(6) Estimated number of respondents: 260.

(7) Estimated total number of hours to complete the questionnaire per respondent: 12 hours.

(8) Information obtained from the questionnaire that qualifies as confidential business information will be so treated by the Commission and not disclosed in a manner that would reveal the individual operations of a firm.

I. Abstract

The House Committee on Ways and Means (the Committee) has directed the Commission to produce a report that examines relevant factors affecting global competitiveness of the U.S. aluminum industry. The Committee has requested that the report (1) provide an overview of the aluminum industry in the United States and other major global producing and exporting countries; (2) describe recent trends and developments in the global market for aluminum; (3) compare competitive strengths and weaknesses of aluminum production and exports in the United States and other major producing and exporting countries; (4) identify factors driving capacity and related production changes in countries where unwrought aluminum capacity has significantly increased; and (5) assess the impact of government policies and programs in major foreign aluminum producing and exporting countries. The Committee has anticipated the need for questionnaires in order to develop detailed information on the domestic aluminum market and industry.

II. Method of Collection

Respondents will be mailed a letter directing them to download and fill out a form-fillable PDF questionnaire. Respondents will also receive a follow-up email. Once complete, respondents may submit it by uploading it to a secure Webserver, emailing it to the study team, faxing it, or mailing a hard copy to the Commission.

III. Request for Comments

Comments are invited on (1) whether the proposed collection of information is necessary; (2) the accuracy of the agency's estimate of the burden (including hours and cost) of the proposed collection of information; (3) ways to enhance the quality, utility, and clarity of the information to be collected; and (4) ways to minimize the burden of the collection of information on respondents, including through the use of automated collection techniques or other forms of information technology.

The draft questionnaire and other supplementary documents may be downloaded from the USITC Web site at https://www.usitc.gov/aluminum.

Comments submitted in response to this notice will be summarized and/or included in the request for OMB approval of this information collection; they will also become a matter of public record.

By order of the Commission.
Dated: June 17, 2016.
Lisa R. Barton,
Secretary to the Commission.

[FR Doc. 2016-14835 Filed 6-24-16; 8:45 am]

BILLING CODE 7020-02-P